DEPARTMENT OF HEALTH AND HUMAN SERVICES

Indian Health Service

Preventing Alcohol-Related Deaths Through Social Detoxification

Announcement Type: New.

Funding Announcement Number: HHS-2023-IHS-PARD-0001.

Assistance Listing (Catalog of Federal Domestic Assistance or CFDA) Number: 93.654.

Key Dates

Application Deadline Date: March 31, 2023.

Earliest Anticipated Start Date: April 17, 2023.

I. Funding Opportunity Description

Statutory Authority

The Indian Health Service (IHS), Office of Clinical and Preventive Services, Division of Behavioral Health (DBH) is accepting applications for cooperative agreements for the Preventing Alcohol-Related Deaths (PARD) through Detoxification. This program is authorized under the Snyder Act, 25 U.S.C. 13; Consolidated Appropriations Act, 2023, Public Law 117-328, 136 Stat. 4459 (2022); and the Transfer Act, 42 U.S.C. 2001(a). This program is described in the Assistance Listings located at https://sam.gov/content/home (formerly known as the CFDA) under 93.654.

Background

According to the Centers for Disease Control and Prevention (CDC) mortality data (Centers for Disease Control and Prevention, National Center for Health Statistics. National Vital Statistics System, Mortality 1999-2020 on CDC WONDER Online Database, released in 2021), alcohol related deaths among American Indian and Alaska Native (AI/AN) persons is a significant and persistent tragic outcome in the US. From 2016 to 2020, the crude rates for alcohol-related deaths was 51.9 (per 100,000) for AI/AN persons, nearly five times higher than non-AI/AN persons (11.7 per 100,000). The geography of these deaths is telling, as 48% were in a cluster across Arizona and New Mexico. Twenty of those counties have death rates over the 51.9 national rate. The highest rates were within McKinley County, with a 147.7 crude death rate for AI/AN persons—nearly 13 times higher than the rate for non-AI/AN, nationally. In the most recent PARD grant program (2017-2022, https://www.gpo.gov/fdsys/pkg/FR-2017-08-14/pdf/2017-17102.pdf), the estimated alcohol-related crude death rates in the proximities of the previous project sites (https://www.ihs.gov/sites/asap/themes/responsive2017/display_objects/documents/pardawardsbystate2017.pdf), McKinley County, New Mexico (Gallup City project) and Oglala Lakota County, South Dakota (formerly Shannon County), remain notably high. With this opportunity, in coordination with the PARD awardee, IHS will address increasing the clinical capacity of services offered between the awardee and local continuum of services.

Purpose

The purpose of this program is to increase access to community-based prevention strategies that provide social detoxification, evaluation, stabilization, fostering patient readiness for and entry into treatment for alcohol use, and other substance use disorders In alignment with the IHS 2019-2023 Strategic Plan Goal 1: To ensure that comprehensive, culturally appropriate personal and public health services are available and accessible to AI/AN people, the PARD project is designed to provide communities the ability to reduce alcohol-related mortality and encourage clients to seek additional alcohol and/or substance use disorder treatment after discharge from a detoxification program.

IHS will use this funding to focus on the provision of services in Tribal and Urban Indian communities with the highest burden of alcohol-related deaths among AI/AN persons. IHS analyzed the national rates of causes of deaths using the CDC data (Centers for Disease Control and Prevention, National Center for Health Statistics. National Vital Statistics System, Mortality 1999-2020 on CDC WONDER Online Database, released in 2021), and determined that McKinley County, New Mexico (with the largest city of Gallup), continues to have the highest burden of alcohol-related deaths among AI/AN persons. Additionally, the 2017 Senate Appropriations Committee Report 114-281 expressed the Committee's expectation that IHS address alcohol and substance abuse through Federal, State, local, and tribal partners, calling for a sustainable model for life-saving community services, with specific attention on the capabilities of the Na'Nizhoozhi Center in Gallup, New Mexico.

A consensus among clinical and subject matter experts understand detoxification does not provide the full spectrum of alcohol and/or substance use disorder treatment but can serve as a pathway to seeking treatment and as a component in the continuum of services for alcohol and substance use disorders (Substance Abuse and Mental Health Services Administration (SAMHSA) Treatment Improvement Protocol (TIP) 45 (https://www.samhsa.gov/resource/ebp/tip-45-detoxification-substance-abuse-treatment).

Required Activities

The PARD program requires applicants to review the Substance Abuse and Mental Health Services Administration (SAMHSA) Treatment Improvement Protocol (TIP) 45 (https://www.samhsa.gov/resource/ebp/tip-45-detoxification-substance-abuse-treatment), which identifies the principle for the basis of the TIP. The PARD program must include the three critical components—evaluation, stabilization, and fostering patient readiness for and entry into treatment. The three critical components identified in the SAMHSA TIP 45 will serve as the program objectives that each applicant will be required to meet. The three objectives include:

1. To evaluate clients encountering the detoxification program by the following methods:

a. testing for the presence of substances of use either through the bloodstream, urine or saliva tests, breathalyzers, and visually; and,

b. measuring the client's coordination and concentration; and,

c. screening for co-occurring mental and physical conditions; and

d. may include a comprehensive assessment of the client's medical and psychological conditions, social situations, and historical traumas.

The evaluation serves as the basis for the initial treatment plan once a client has been withdrawn successfully.

2. To stabilize the clients while in detoxification, which includes the following methods:

a. The medical and psychosocial processes of assisting the client through acute intoxication and withdrawal to the attainment of a medically stable, fully supported, substance-free state. This may be done with the assistance of medications, though in some approaches, no medication is used.

b. Familiarizing patients with their role and what to expect in the detoxification program.

c. The detoxification staff seek the involvement of the client's social support systems (family, employers, significant others, congregations, etc.— with release of confidentiality).

d. Provide hot meals, showers, hygiene kits, and other activities of daily living that are necessary for individuals in detoxification and treatment services.

e. Ensure evidence-based interventions, promising/best practices, and culture-based practices are incorporated into the detoxification curriculum while individuals are participating in services.

3. To foster the client's readiness for and entry into treatment for alcohol use disorders, and when appropriate, other substance use disorders:

a. Preparing the client for entry into alcohol and/or substance use disorder treatment by stressing the importance of following through with their complete continuum of care, as a documented treatment plan.

b. It is highly recommended to encourage clients to continue alcohol and/or substance use disorder treatment prior to discharge from the detoxification program, and record the commitment that is indicated by the client in their documented treatment plan.

c. Provide recovery pathways for all clients (recorded in their respective documented treatment plans) by linking them to further treatment for alcohol and/or substance use disorders, including the facilitation of contact with treatment providers and programs after detoxification.

d. Measure the overall treatment process, including the progress and results of referrals, by following individuals who enter the detoxification program and throughout their follow-on uses of alcohol and/or substance use disorder treatment/rehabilitation after detoxification, and record the results in their respective treatment plans.

The IHS encourages applicants to develop and submit a work plan that emphasizes cross-system collaboration, the inclusion of family and social support systems, community resources, and culturally appropriate approaches.

Grantees will be required to:

(1) Review and implement the guidance of the SAMHSA TIP 45, Detoxification and Substance Abuse Treatment.

(2) Provide semi-annual reports to the IHS program officer on the number of individuals served, number of individuals referred to treatment services, number of individuals who access services more than once, and number of individuals who access safe housing options.

(3) Collect data that accounts for all the interventions provided to each patient in a format that measures operationally defined methods, content, and dose.

(4) The data collected must account for the service transitions for each patient (e.g., transfer to the emergency room, transfer to detoxification) in the local continuum of care.

(5) The data collected must account for the outcomes for each patient (e.g., incarceration, inpatient treatment, sobriety, moved out of service area, missing, and death).

(6) The complete patient-level data, de-identified, will be securely transferred by the awardee to the IHS DBH National Data Coordinator every quarter, for independent and nationally comparative analysis.

(7) Participate in the development, implementation, and evaluation of a strategy that prevents alcohol related death.

(8) Participate in the development, implementation, and evaluation of a sustainable model for clinical capacity.

(9) Provide annual reports on successes and challenges.

(10) Host annual site visits for IHS officials to discuss progress, partnerships, clinical capacity, challenges, and opportunities for improvement.

(11) Provide meals, showers, hygiene kits, and other activities of daily living that are necessary for individuals in detoxification and treatment services. The meals should only be provided while the patient is in the detoxification program to ensure proper nutrition and safety for the patient.

(12) Ensure coordination with cultural services and traditional healers to provide services while individuals are participating in services.

(13) If applicable, provide transportation to and from medical appointments or for medical clearance and ensure that medication management is offered while individuals are participating in services.

(14) Must use 100 percent of IHS award funds for services provided toAI/AN individuals.

II. Award Information

Funding Instrument—Cooperative Agreement

Estimated Funds Available

The total amount of funding identified for the first budget year, starting in fiscal year (FY) 2023 is approximately $2 million. The amount of funding available for competing and subsequent continuation awards issued under this announcement is subject to the availability of appropriations and budgetary priorities of the Agency. The IHS is under no obligation to make awards that are selected for funding under this announcement.

Anticipated Number of Awards

Approximately one award will be issued under this program announcement.

Period of Performance

The project period is for 5 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

(1) Participate in community-level meetings with key stakeholders who will develop a strategy to combat the issue of alcohol use disorders and subsequent alcohol-related deaths.

(2) Participate in annual site visits for technical assistance on increasing the clinical capacity of services offered between the awardee and IHS programs, where available.

(3) Provide subject matter expertise on policies, procedures, guidelines, and other services provided by the grantee.

(4) Provide guidance to the awardee involving strategy, data collection, analysis, reporting, coordination of activities, and evaluation.

(5) Provide medical services as appropriate for individuals requiring a higher level of care, or medical clearance.

(6) Monitor the overall progress and challenges of the awardee's program and their adherence to the terms and conditions of the cooperative agreement.

III. Eligibility Information

1. Eligibility

To be eligible for this funding opportunity an applicant will be a public or private institution operated by a state, local, Tribal, or private entity that operates direct, on-site alcohol and/or substance use disorder treatment services, including social alcohol detoxification services, to AI/AN persons. For purposes of this announcement, “institution” means an entity that provides substance use disorder treatment services including detoxification. Applicants must be able to start services on the first day of the award. Applicants must serve AI/AN persons.

The Division of Grants Management (DGM) will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. If deemed ineligible, IHS will not return the application. The applicant will be notified by email by the Division of Grants Management (DGM) of this decision.

Additional Required Documentation

Proof of Nonprofit Status

Organizations claiming nonprofit status must submit a current copy of the 501(c)(3) Certificate with the application, by the Application Deadline Date listed under the Key Dates section on page 1 of this announcement.

An applicant submitting any of the above additional documentation after the initial application submission due date is required to ensure the information was received by the IHS DGM by obtaining documentation confirming delivery (i.e., FedEx tracking, postal return receipt, etc.).

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a single file. Creating a single file creates confusion when trying to find specific documents. Such confusion can contribute to delays in processing awards, and could lead to lower scores during the objective review.

1. Obtaining Application Materials

The application package and detailed instructions for this announcement are available at https://www.Grants.gov.

Please direct questions regarding the application process to DGM@ihs.gov.

2. Content and Form Application Submission

Mandatory documents for all applicants include:

• Application forms:

1. SF-424, Application for Federal Assistance.

2. SF-424A, Budget Information—Non-Construction Programs.

3. SF-424B, Assurances—Non-Construction Programs.

4. Project Abstract Summary form.

• Project Narrative (not to exceed 10 pages). See Section IV.2.A, Project Narrative for instructions.

• Budget Narrative (not to exceed 5 pages). See Section IV.2.B, Budget Narrative for instructions.

• Letters of Support from organization's Board of Directors, Tribal partners, and community stakeholders.

• 501(c)(3) Certificate (if applicable).

• Biographical sketches for all key personnel.

• Contractor/Consultant resumes or qualifications and scope of work.

• Disclosure of Lobbying Activities (SF-LLL), if applicant conducts reportable lobbying.

• Certification Regarding Lobbying (GG-Lobbying Form).

• Copy of current Negotiated Indirect Cost (IDC) rate agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative: This narrative must be a separate document that is no more than 10 pages and must: (1) have consecutively numbered pages; (2) use black font 12 points or larger (applicants may use 10 point font for tables); (3) be single-spaced; and (4) be formatted to fit standard letter paper (8½ x 11 inches). Do not combine this document with any others.

Be sure to succinctly answer all questions listed under the evaluation criteria (refer to Section V.1, Evaluation Criteria), and place all responses and required information in the correct section noted below or they will not be considered or scored. If the narrative exceeds the overall page limit, reviewers will be directed to ignore any content beyond the page limit. The 10-page limit for the project narrative does not include the standard forms, budget, budget narratives, and/or other items. Page limits for each section within the project narrative are guidelines, not hard limits.

There are three parts to the project narrative:

Part 1—Program Information;

Part 2—Program Planning and Evaluation; and

Part 3—Program Report.

See below for additional details about what must be included in the narrative.

The page limits below are for each narrative and budget submitted.

Part 1: Program Information (Limit—2 Pages)

Section 1: Needs.

Describe the current issue of alcohol use disorders, alcohol-related deaths, and rates of alcohol-related liver cirrhosis, as well as other social and health issues impacted by alcohol-related deaths. Describe the program's current social detoxification program, who operates it, number of employees, how long it has been operating, and what programs or services are currently being provided. Provide a statement of fact on the clientele served, average daily census, and ratio of individuals served who are enrolled members of federally recognized Tribes to those who are not.

Part 2: Program Planning and Evaluation (Limit—6 Pages)

Section 1: Program Plans.

Describe fully and clearly the direction the applicant plans to take to provide detoxification services, including the three critical components: evaluation, stabilization, and fostering patient readiness for and entry into treatment. Describe how the applicant will provide safe housing and custodial care in a safe environment by employees who have successfully passed background checks, who have been trained in social detoxification, and who are familiar with the features of substance use withdrawal, have training in basic life support, and have access to emergency medical systems. Describe how the applicant will provide appropriate monitoring and security to prevent self-harm of served individuals and harm to others. Describe how the applicant has the ability to provide transportation to and from emergency departments, as needed. Further information on general guidelines for addressing these needs can be found in the SAMHSA TIP-45.

Describe fully and clearly the types of community partnerships and referral providers to provide health and behavioral health treatment services, among others. Include information about how the applicant will implement a communication and support strategy that includes family members of individuals served (with their consent). Describe the applicant's ability to provide daily activities of living such as exercise, showers, meals, personal hygiene, blankets, and appropriate clothing. Include information on how the applicant will provide culturally appropriate interventions and activities. Provide details on nurse support for medical issues and medication management and referral to a higher level of care, when needed; medication management, assessments, and screening of clients; and case management services.

Section 2: Program Evaluation.

This section of the project narrative should describe your organization's plan for gathering client-specific non-identifiable data, submitting data requirements, and documenting the ability to ensure accurate digital data collection and reporting on community and client level activities, including those that correspond to treatment plans. The applicant should describe how their program intends to evaluate its activities to include successes, challenges, outputs, and outcomes. Some examples of activities include training of staff on observation and signs to look for in clients encountering the detoxification program; safety protocols; organizational protocols and procedures; safety plans; data collection methods and support systems for collecting data; partnerships developed and sustained; and recovery support activities provided for clients.

Part 3: Program Report (Limit—2 Pages)

Section 1: Describe your organization's significant program activities and accomplishments as a detoxification program over the past 5 years associated with the goals of this announcement. Please identify current staffing and key personnel who will be responsible for the management of the cooperative agreement.

Additionally, the applicant's should describe their ability to report on collaboration and networking with local partners. Reporting elements will pertain to activities, processes, barriers, and outcomes and include any partners who will assist in evaluation efforts if separate from the primary applicant.

B. Budget Narrative (Limit—5 Pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item will support the achievement of proposed objectives. Be very careful about showing how each item in the “Other” category is justified. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by email at DGM@ihs.gov. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one cooperative agreement under this program may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov, with a copy to Mr. Paul Gettys, Deputy Director, DGM, at Paul.Gettys@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Late applications or application that do not include a copy of the signed waiver from the Deputy Director of the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management (SAM)

Organizations that are not registered with SAM must access the SAM online registration through the SAM home page at https://sam.gov. Organizations based in the U.S. will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS awardees to report information on sub-awards. Accordingly, all IHS awardees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

The purpose of this funding opportunity is to support programs that provide detoxification for alcohol use disorders and when appropriate, other substance use disorders to address its impact in AI/AN populations and reduce the mortality associated with alcohol and other substance use. The applicant must describe fully and clearly the following areas.

A. Part 1: Program Information (40 Points)

1. The impact of alcohol use disorders, alcohol-related deaths, alcohol-related morbidity, and other social and health issues attributed to alcohol and other substances in the community they serve.

2. The status of the social detoxification program, who operates it, the number of employees, how long it has been in operation, and what programs or services are being provided.

3. Demonstrate the need for funding and how the funding will complement, enhance, increase, and/or expand the services currently provided.

4. The applicant's service population, clientele served, average daily census, and ratio of individuals served who are enrolled members of federally recognized Tribes to those who are not.

5. The applicant's readiness and capacity to provide services on day one of the award.

6. The applicant's staffing level, experience and education of staff, and key personnel who will manage the project.

B. Part 2: Program Planning and Evaluation (40 Points)

Section 1: Program Planning.

1. The applicant's description of the social detoxification program that includes the three critical components of evaluation, stabilization, and fostering patient readiness for and entry into treatment.

2. The applicant's plans to provide safe housing, including custodial care in a safe environment.

3. The applicant's process of ensuring employees have passed background checks and are trained in appropriate alcohol and substance use disorder identification; withdrawal management; emergency and crisis intervention training; evidence/culture-based interventions and best practices; and treatment approaches.

4. The applicant's appropriate monitoring of individuals accessing services and security measures to ensure safety and prevention of self-harm and harm to others.

5. Community partnerships and referral networks for health and behavioral health treatment services, including when medical intervention is required for stabilization.

6. The applicant's ability to provide transportation to and from emergency departments.

7. Communication strategies with the client's support system that fosters the client's recovery efforts upon consent (i.e., family, social support groups, peer recovery specialists, and traditional healing services).

8. The applicant's ability to provide activities for daily living including physical and mental exercises, showers, meals, cultural activities, blankets, appropriate clothing, and activities that foster increased self-esteem, self-awareness, and self-efficacy.

9. The applicant's ability to provide clinical and behavioral health support for medical issues and medication management, assessments, screening, referral to higher levels of care, and case management.

Section 2: Program Evaluation.

10. The organization's plan for gathering client-specific non-identifiable data.

11. The ability to ensure accurate digital data collection and reporting on community and client level activities.

12. The ability to report on networking and partnering with local partners through memorandums of agreements/understanding, letters of support, council/Tribal resolutions, and coalition involvement.

13. The applicant should describe how their program intends to evaluate its activities to include successes, challenges, outputs, and outcomes.

C. Part 3: Program Report (10 Points)

1. The applicant's significant program activities and accomplishments over the past 5 years associated with the goals of this funding opportunity.

2. Identifies current staffing and key personnel who will be responsible for the management of the cooperative agreement.

3. The applicant's ability to report on collaboration and networking with local partners and submit reporting elements that pertain to activities, processes, barriers, and outcomes.

4. Include any partners who will assist in evaluation efforts if separate from the primary applicant.

D. Budget Narrative (10 Points)

1. How clearly the applicant demonstrates each budget item aligns with its proposal and program approach.

2. The degree to which the applicant budgets for evaluation activities.

Additional documents can be uploaded as Other Attachments in Grants.gov. These can include:

• Work plan, logic model, and/or timeline for proposed objectives.

• Position descriptions for key staff.

• Resumes of key staff that reflect current duties.

• Consultant or contractor proposed scope of work and letter of commitment (if applicable).

• Current Indirect Cost Rate Agreement.

• Organizational chart.

• Map of area identifying project location(s).

• Additional documents to support narrative (i.e., data tables, key news articles, etc.).

2. Review and Selection

Each application will be prescreened for eligibility and completeness as outlined in the funding announcement. Applications that meet the eligibility criteria shall be reviewed for merit by the Objective Review Committee (ORC) based on evaluation criteria. Incomplete applications and applications that are not responsive to the administrative thresholds (budget limit, period of performance limit) will not be referred to the ORC and will not be funded. The program office will notify the applicant of this determination.

Applicants must address all program requirements and provide all required documentation.

3. Notifications of Disposition

All applicants will receive an Executive Summary Statement from the IHS DBH within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the award, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2021-title45-vol1/pdf/CFR-2021-title45-vol1-part75.pdf.

• Please review all HHS regulatory provisions for Termination at 45 CFR 75.372, at the time of this publication located at https://www.govinfo.gov/content/pkg/CFR-2021-title45-vol1/pdf/CFR-2021-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75, subpart E, at the time of this publication located at https://www.govinfo.gov/content/pkg/CFR-2021-title45-vol1/pdf/CFR-2021-title45-vol1-part75-subpartE.pdf.

E. Audit Requirements:

• Uniform Administrative Requirements for HHS Awards, “Audit Requirements,” at 45 CFR part 75, subpart F, at the time of this publication located at https://www.govinfo.gov/content/pkg/CFR-2021-title45-vol1/pdf/CFR-2021-title45-vol1-part75-subpartF.pdf.

F. As of August 13, 2020, 2 CFR part 200 was updated to include a prohibition on certain telecommunications and video surveillance services or equipment. This prohibition is described in 2 CFR 200.216. This will also be described in the terms and conditions of every IHS grant and cooperative agreement awarded on or after August 13, 2020. “If you are successful and receive a Notice of Award, in accepting the award, you agree that the award and any activities thereunder are subject to all provisions of 45 CFR part 75, currently in effect or implemented during the period of the award, other Department regulations and policies in effect at the time of the award, and applicable statutory provisions.”

2. Indirect Costs

This section applies to all awardees that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs,

any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent only applies to applicants that have never received an approved negotiated indirect cost rate from HHS or another cognizant Federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS awardees are negotiated with the Division of Cost Allocation at https://rates.psc.gov/ or the Department of the Interior (Interior Business Center) at https://ibc.doi.gov/ICS/tribal. For questions regarding the indirect cost policy, please call the Grants Management Specialist listed under “Agency Contacts” or write to DGM@ihs.gov.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required semi-annually. The progress reports are due within 30 days after the reporting period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Reports are due 90 days after the end of each budget period, and a final report is due 120 days after the end of the period of performance. Awardees are responsible and accountable for reporting accurate information on all required reports: the Progress Reports and the Federal Financial Report.

Failure to submit timely reports may result in adverse award actions blocking access to funds.

C. Data Collection and Reporting

All awardees will be required to collect and report data pertaining to activities, processes, and outcomes. The IHS DBH will provide guidance on data collection and reporting for evaluation purposes within 6 months of award. Programmatic reporting must be submitted within 30 days after the budget period ends for each project year (specific dates will be listed in the NoA Terms and Conditions). All reporting items will be submitted via the Grant Solutions. Technical assistance for web-based data entry will be timely and readily available to awardees by assigned IHS DBH staff. Awardees are responsible and accountable for accurate information being submitted by required due dates for Data Collection and Reporting.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for awardees of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Awardees of Federal Financial Assistance

The awardee must administer the project in compliance with Federal civil rights laws that prohibit discrimination on the basis of race, color, national origin, disability, age, and comply with applicable conscience protections. The awardee must comply with applicable laws that prohibit discrimination on the basis of sex, which includes discrimination on the basis of gender identity, sexual orientation, and pregnancy. Compliance with these laws requires taking reasonable steps to provide meaningful access to persons with limited English proficiency and providing programs that are accessible to and usable by persons with disabilities. The HHS Office for Civil Rights provides guidance on complying with civil rights laws enforced by HHS. See https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75, appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and awardees must disclose in writing, in a timely manner, to the IHS and to the HHS Office of Inspector General all information related to violations of Federal criminal law involving fraud, bribery, or gratuity violations potentially affecting the Federal award. 45 CFR 75.113.

Disclosures must be sent in writing to: U.S. Department of Health and Human Services, Indian Health Service, Division of Grants Management, ATTN: Marsha Brookins, Director, 5600 Fishers Lane, Mail Stop: 09E47, Rockville, MD 20857. (Include “Mandatory Grant Disclosures” in subject line). Office: (301) 443-4750. Fax: (301) 594-0899. Email: DGM@ihs.gov.

AND

U.S. Department of Health and Human Services, Office of Inspector General, ATTN: Mandatory Grant Disclosures, Intake Coordinator, 330 Independence Avenue SW, Cohen Building, Room 5527, Washington, DC 20201. URL: https://oig.hhs.gov/fraud/report-fraud/. (Include “Mandatory Grant Disclosures” in subject line). Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the programmatic issues may be directed to: JB Kinlacheeny, Public Health Advisor, Indian Health Service, Division of Behavioral Health, 5600 Fishers Lane, Mail Stop: 0834NB, Rockville, MD 20857. Phone: (301) 443-0104. Email: JB.Kinlacheeny@ihs.gov.

2. Questions on grants management and fiscal matters may be directed to: Indian Health Service, Division of Grants Management, 5600 Fishers Lane, Mail Stop: 09E47, Rockville, MD 20857, Email: DGM@ihs.gov. For technical assistance with Grants.gov, please contact the Grants.gov help desk at 800-518-4726, or by email at support@grants.gov.

VIII. Other Information

The Public Health Service strongly encourages all grant, cooperative agreement, and contract awardees to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2023-04151 Filed 2-28-23; 8:45 am]

BILLING CODE 4165-16-P